SECURITIES AND EXCHANGE COMMISSION

[Release No. 34-43202; File No. SR-NASD-99-53]

Self-Regulatory Organizations; Notice of Extension of the Comment Period for the Proposed Rule Change by the National Association of Securities Dealers, Inc. Relating to the Establishment of the Nasdaq Order Display Facility and Modifications of the Nasdaq Trading Platform

August 23, 2000.

On October 1, 1999, the National Association of Securities Dealers, Inc. (“NASD”), through its wholly-owned subsidiary, the Nasdaq Stock Market, Inc. (“Nasdaq”), filed with the Securities and Exchange Commission (“Commission”), pursuant to Section 19(b)(1) of the Securities Exchange Act of 1934 (“Act”),¹ and Rule 19b-4 thereunder,² a proposed rule change to establish the Nasdaq Order Display Facility and the Order Collector Facility, collectively referred to as the SuperMontage. On October 26, and October 29, 1999, respectively, Nasdaq filed Amendment Nos. 1 and 2 to the proposal.³ The proposed rule change and Amendment Nos. 1 and 2 were published for comment in the Federal Register on December 6, 1999.⁴ On March 16, 2000, Nasdaq filed Amendment No. 3 to the proposal.⁵ On March 23, 2000, Nasdaq filed Amendment No. 4 ⁶ to the proposal, which was published for comment in the Federal Register on March 30, 2000.⁷ On May 19, 2000, Nasdaq filed Amendment No. 5 to the proposal; ⁸ on July 7, 2000, Nasdaq filed Amendment No. 6; ⁹ and on August 8, 2000, Nasdaq filed Amendment No. 7.¹⁰ Amendment Nos. 5, 6 and 7 were published in the Federal Register for comment on August 15, 2000.¹¹

¹ 15 U.S.C. 78s(b)(1).

² 17 CFR 240.19b-4.

³ See letters from Thomas P. Moran, Assistant General Counsel, Office of the General Counsel, Nasdaq, to Richard Strasser, Assistant Director, Division of Market Regulation (“Division”), Commission, dated October 26, 1999 (“Amendment No. 1”); and from John F. Malitzis, Assistant General Counsel, Office of the General Counsel, Nasdaq, to Richard Strasser, Assistant Director, Division, Commission, dated October 29, 1999 (“Amendment No. 2”).

⁴ See Securities Exchange Act Release No. 42166 (Nov. 22, 1999), 64 FR 69125.

⁵ See letter from Richard G. Ketchum, President, NASD, to Belinda Blaine, Associate Director, Division, Commission, dated March 15, 2000 (“Amendment No. 3”).

⁶ See letter from Richard G. Ketchum, President, NASD, to Belinda Blaine, Associate Director, Division, Commission, dated March 23, 2000 (“Amendment No. 4”).

⁷ See Securities Exchange Act Release No. 42573 (March 23, 2000), 65 FR 16981.

⁸ See letter from Richard G. Ketchum, President, NASD, to Belinda Blaine, Associate Director, Division, Commission, dated May 16, 2000 (“Amendment No. 5”).

⁹ See letter from Richard G. Ketchum, President, NASD, to Belinda Blaine, Associate Director, Division, Commission, dated July 6, 2000 (“Amendment No. 6”).

¹⁰ See letter from Richard G. Ketchum, President, NASD, to Annette Nazareth, Director, Division, Commission, dated August 7, 2000 (“Amendment No. 7”).

¹¹ See Securities Exchange Act Release No. 43133 (August 10, 2000), 65 FR 49842.

To give the public additional time to comment on Amendment Nos. 5, 6, and 7, the Commission is extending the comment period for Amendment Nos. 5, 6, and 7 to September 14, 2000. A copy of the proposed rule change, as amended, is available in the Commission's Public Reference Room in File No. SR-NASD-99-53.

Interested persons are invited to submit written data, views, and arguments concerning the foregoing, including whether Amendment Nos. 5, 6, and 7 are consistent with the Act. Persons making written submissions should file six copies thereof with Jonathan G. Katz, Secretary, Securities and Exchange Commission, 450 Fifth Street, N.W., Washington, DC 20549-0609. Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Room. Copies of such filing will also be available for inspection and copying at the principal office of the NASD. All submissions should refer to File No. SR-NASD-99-53 and should be submitted by September 14, 2000.

By the Commission.
Margaret H. McFarland,
Deputy Secretary.

[FR Doc. 00-22114 Filed 8-29-00; 8:45 am]

BILLING CODE 8010-01-M